CORPORATION FOR NATIONAL AND COMMUNITY SERVICE

Sunshine Act Meeting

The National Civilian Community Corps Advisory Board gives notice of the following meeting:

DATE AND TIME: Tuesday, October 22, 2013, 2:30 p.m.—3:30 p.m. (ET).

PLACE: Conference Room 8312, 8th floor, Corporation for National and Community Service Headquarters, 1201 New York Avenue NW., Washington, DC 20525.

CALL-IN INFORMATION: This meeting is available to the public through the following toll-free call-in number: 888-469-1380 conference call access code number 2074759. Kate Becker will be the lead on the call. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 800-947-6304, replay passcode 7417. The end replay date: November 22, 2013, 3:59 p.m. (CT).

STATUS: Open.

MATTERS TO BE CONSIDERED:

I. Meeting Convenes

• Call to Order, Welcome, and Preview of Today's Meeting Agenda

• Introduction & Acknowledgements

II. Approval of Previous Meeting's Minutes

III. Director's Report

IV. Program Reports

• Projects and Partnerships

• Policy and Operations

• 20th Anniversary

• Member Development

V. Public Comment

ACCOMMODATIONS: Anyone who needs an interpreter or other accommodation should notify the Corporation's contact person by 5:00 p.m. Thursday, October 17, 2013.

CONTACT PERSON FOR MORE INFORMATION: Erma Hodge, NCCC, Corporation for National and Community Service, Room 9802B, 9th Floor, 1201 New York Avenue NW., Washington, DC 20525. Phone 202-606-6696. Fax 202-606-3459. TTY 800-833-3722. Email: ehodge@cns.gov.

Dated: September 16, 2013.
Valerie E. Green,
General Counsel.

[FR Doc. 2013-22954 Filed 9-17-13; 4:15 pm]

BILLING CODE 6050-28-P